DEPARTMENT OF DEFENSE

Office of the Secretary

[Docket No. DOD-2011-HA-0019]

Submission for OMB Review; Comment request

ACTION: Notice.

The Department of Defense has submitted to OMB for clearance, the following proposal for collection of information under the provisions of the Paperwork Reduction Act (44 U.S.C. Chapter 35).

DATES: Consideration will be given to all comments received by May 31, 2012.

Title and OMB Number: Electronic Health Record (EHR) Usability Survey; OMB Control Number 0720-TBD.

Type of Request: New.

Number of Respondents: 942.

Responses per Respondent: 4.

Annual Responses: 3768.

Average Burden per Response: 10 minutes.

Annual Burden Hours: 628 hours.

Needs and Uses: The intended use of the information collection is to develop a longitudinal measure of how end-users perceive the usability of the Department of Defense (DoD) suite of Electronic Health Record (EHR) applications.

Until recently, understanding the performance of EHR systems focused on functionality and user satisfaction. Now the focus has shifted towards understanding the usability of a system. This usability attribute describes the ease with which people can use the system to achieve a goal, and consists of three measurable components: Efficiency, effectiveness, and satisfaction.

As the Military Health Systems (MHS) moves towards developing the next generation of EHR applications, it is important to obtain baseline usability data of our current suite of applications and be able to monitor changes over time as the new EHR is deployed. Over the next five years, the DoD will make a significant investment to deliver a new EHR solution and it will be important to accurately assess the benefits realized as a result of this investment.

Affected Public: Individuals or households; Federal government.

Frequency: Quarterly.

Respondent's Obligation: Voluntary.

OMB Desk Officer: Mr. John Kraemer

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD Information Management Division, 4800 Mark Center Drive, East Tower, Suite 02G09, Alexandria, VA 22350-3100.

Dated: February 15, 2012.
Patricia L. Toppings,
OSD Federal Register Liaison Officer, Department of Defense.

[FR Doc. 2012-10399 Filed 4-30-12; 8:45 am]

BILLING CODE 5001-06-P